FEDERAL COMMUNICATIONS COMMISSION

47 CFR Part 90

[WT Docket No. 11-69; Report No. 2970]

Petition for Reconsideration of Action in Rulemaking Proceeding

AGENCY: Federal Communications Commission.

ACTION: Petition for reconsideration.

SUMMARY: In this document, Petition for Reconsideration and/or a Petition for Clarification (Petition) has been filed in the Commission's rulemaking proceeding by Chuck Powers, Director, Engineering and Technology Policy, on the behalf of Motorola Solutions Inc.

DATES: Oppositions to the Petition must be filed on or before January 2, 2013. Replies to an opposition must be filed on or before January 14, 2013.

ADDRESSES: Federal Communications Commission, 445 12th Street SW., Washington, DC 20554.

FOR FURTHER INFORMATION CONTACT: Tim Maguire, Wireless Telecommunications Bureau, 202-418-2155, tim.maguire@fcc.gov mailto:tim.maguire@fcc.gov.

SUPPLEMENTARY INFORMATION: This is a summary of Commission's document, Report No.2970, released November 29, 2012. The full text of Report No. 2970 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

SUBJECT: Amendment of Part 90 of the Commission's Rules to Permit Terrestrial Trunked Radio (TETRA) Technology; Request by the TETRA Association for Waiver of §§ 90.209, 90.210 and 2.1043 of the Commission's rules, published at 77 FR 61535, October 10, 2012, in WT Docket No. 11-69, and published pursuant to 47 CFR 1.429(e) of the Commission's rules. See also 47 CFR 1.4(b)(1).

Number of Petitions Filed: 1.

Federal Communications Commission.
Marlene H. Dortch,
Secretary.

[FR Doc. 2012-30484 Filed 12-17-12; 8:45 am]

BILLING CODE 6712-01-P